DEPARTMENT OF TRANSPORTATION

Federal Aviation Administration

Public Notice for Waiver of Aeronautical Land-use Assurance Quad City International Airport, Moline, IL

AGENCY: Federal Aviation Administration, DOT.

ACTION: Notice of intent of waiver with respect to land.

SUMMARY: The Federal Aviation Administration (FAA) is considering a proposal to change a portion of the airport from aeronautical use to non-aeronautical use and to authorize the lease of the airport property. The proposal consists of a 2.656-acre portion of Parcel Z (9.19 acres). The land is currently vacant and is not needed for aeronautical use. The land was acquired under the FAA Project Numbers 9-11-024-C309. There are no impacts to the airport by allowing the airport to lease the property. The change from aeronautical to non-aeronautical use will allow the construction of a hotel on the subject 2.656-acre parcel. Approval does not constitute a commitment by the FAA to financially assist in the lease of the subject airport property nor a determination of eligibility for grant-in-aid funding from the FAA. The disposition of proceeds from the lease of the airport property will be in accordance with FAA's Policy and Procedures Concerning the Use of Airport Revenue, published in the Federal Register on February 16, 1999.

In accordance with section 47107(h) of title 49, United States Code, this notice is required to be published in the Federal Register 30 days before modifying the land-use assurance that required the property to be used for an aeronautical purpose.

DATES: Comments must be received on or before September 12, 2005.

FOR FURTHER INFORMATION CONTACT: Mr. Richard A. Pur, Program Manager, Federal Aviation Administration, Great Lakes Region, Chicago Airports District Office, CHI-ADO-611, 2300 East Devon Avenue, Des Plaines, Illinois 60018. Telephone Number (847) 294-7527/FAX Number (847) 294-7046. Documents reflecting this FAA action may be reviewed at this same location or at Quad City International Airport, Moline, Illinois.

SUPPLEMENTARY INFORMATION: Following is a legal description of the property located in Moline, Illinois, and described as follows:

Part of Outlot 3, 4, 5, 8 and part of the vacated Right-of-Way between outlot 5 and 8 in Valley View Place, an addition in the Northwest Quarter of Section 21, Township 17 North, Range 1 West of the Fourth Principal Meridian, Rock Island County, Illinois.

Commencing at the Northwest Corner of said Northwest Quarter; thence North 89 degrees 37 minutes 26 seconds East, along the North line of said Northwest Quarter, a distance of 1346.94 feet to the Southerly Right-of-Way Line of Airport Road (F.A. RTE 10); thence South 57 degrees 20 minutes 31 seconds East, along said Southerly Right-of-Way Line, a distance of 169.92 feet; thence South 49 degrees 30 minutes 29 seconds East, along said Southerly Right-of-Way Line, a distance of 108.84 feet to the Point of Beginning; thence South 49 degrees 30 minutes 29 seconds East, along said Southerly Right-of-Way Line, a distance of 256.67 feet; thence South 66 degrees 59 minutes 20 seconds East, along said Southerly Right-of-Way, a distance of 257.33 feet; thence South 04 degrees 17 minutes 28 seconds West, a distance of 145.95 feet; thence South 88 degrees 41 minutes 14 seconds East, a distance of 47.06 feet to said Southerly Right-of-Way Line; thence South 01 degrees 18 minutes 46 seconds West, along said Southerly Right-of-Way Line, a distance of 30.20 feet to the Northwest Corner of Flick's 1st Addition; thence South 65 degrees 43 minutes 17 seconds West, a distance of 183.64 feet; thence curving to the left a distance of 397.76 feet, along the arc of a circle having a radius of 540.00 feet, and a chord bearing of North 45 degrees 22 minutes 50 seconds West, and a chord distance of 388.83 feet; thence North 66 degrees 28 minutes 58 seconds West, a distance of 146.96 feet; thence North 19 degrees 38 minutes 36 seconds West, a distance of 32.90 feet; thence North 37 degrees 59 minutes 21 seconds East, a distance of 199.01 feet to the Point of Beginning.

The above-described parcel contains 2.656 acres, more or less. For the purpose of this description, the North Line of said Northwest Quarter of Section 21, has a bearing of North 89 degrees 37 minutes 26 seconds East, based on the North American Datum of 1983, Illinois State Plans Coordinate System, West Zone.

Issued in Des Plaines, Illinois on July 28, 2005.
Larry H. Ladendorf,
Acting Manager, Chicago Airports District Office, FAA, Great Lakes Region.

[FR Doc. 05-15857 Filed 8-10-05; 8:45 am]

BILLING CODE 4910-13-M